DEPARTMENT OF EDUCATION

President's Advisory Commission on Educational Excellence for Hispanic Americans; Meeting

AGENCY: President's Advisory Commission on Educational Excellence for Hispanic Americans, Department of Education.

ACTION: Notice of meeting.

SUMMARY: This notice sets forth the schedule and proposed agenda of a forthcoming meeting of the President's Advisory Commission on Educational Excellence for Hispanic Americans (Commission). Notice of this meeting is required under Section 10(a)(2) of the Federal Advisory Committee Act in order to notify the public of their opportunity to attend. The public is not receiving a 15 day notice of the meeting because of delays in finalizing meeting logistics.

DATES AND TIMES: Thursday, March 9, from 1-5 pm; Friday, March 10, from 9-4 pm.

ADDRESSES: U.S. Department of Labor, 200 Constitution Ave, NW, Washington, DC.

FOR MORE INFORMATION CONTACT: Richard Toscano, Special Assistant for Interagency Affairs, at 202-401-1411 (telephone), 202-401-8377 (FAX), richard_toscano@ed.gov (e-mail) or mail: U.S. Department of Education, 400 Maryland S.W., room 5E110; Washington, D.C. 20202-3601.

SUMMARY INFORMATION: The Commission was established under Executive Order 12900 (February 22, 1994) to provide the President and the Secretary of Education with advice on (1) the progress of Hispanic Americans toward achievement of the National Goals and other standards of educational accomplishment; (2) the development, monitoring, and education for Hispanic Americans; (3) ways to increase, State, county, private sector and community involvement in improving education; and (4) ways to expand and complement Federal education initiatives.

At the March meeting, the Commission will discuss current and future activities. Specifically, the Commission will focus on ways to institutionalize its work, including ongoing efforts to bring more awareness about federal programs and activities that are assisting Latinos. Individuals who will need accommodations for a disability in order to attend the meeting (i.e., interpreting services, assistive, listening devices, materials in alternative format) should notify Richard Toscano, at (202) 401-2147, by no later than March 7. We will attempt to meet requests after this date, but cannot guarantee availability of the requested accommodation. The meeting site is accessible to individuals with disabilities.

The Commission's Sub-Committee on Higher Education will also hold a press briefing on the issue of Latinos in Higher Education on March 9 from 10:00am-12:00pm at the National Press Club.

Records of all Commission proceedings are available for public inspection at the White House Initiative, U.S. Department of Education, 400 Maryland Ave., S.W., Room 5E110, Washington, D.C. 20202 from 9 a.m. to 5 p.m. (est).

Dated: February 29, 2000.
G. Mario Moreno,
Assistant Secretary, Office of Intergovernmental and Interagency Affairs.

[FR Doc. 00-5437 Filed 3-6-00; 8:45 am]

BILLING CODE 4000-01-M